DEPARTMENT OF THE INTERIOR

National Park Service

[NPS-WASO-NRNHL-22351; PPWOCRADI0, PCU00RP14.R50000]

National Register of Historic Places; Notification of Pending Nominations and Related Actions

AGENCY: National Park Service, Interior.

ACTION: Notice.

SUMMARY: The National Park Service is soliciting comments on the significance of properties nominated before October 29, 2016, for listing or related actions in the National Register of Historic Places.

DATES: Comments should be submitted by December 13, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before October 29, 2016. Pursuant to section 60.13 of 36 CFR Part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ALABAMA

Fayette County

Grimsley, John Clifford, House, 432 10th St., Fayette, 16000834

Houston County

Water Works Standpipe, Intersection of East Powell and North Saint Andrews St., .5 mi. north of Main St., Dothan, 16000835

COLORADO

Douglas County

Dyer, Samuel, House, 208 North Cantril St., Castle Rock, 16000836

GEORGIA

Chatham County

Atlantic Greyhound Bus Terminal, 109 Martin Luther King, Jr. Blvd., Savannah, 16000837

MICHIGAN

Saginaw County

Saginaw News Building, 203 South Washington Ave., Saginaw, 16000838

NEW YORK

Erie County

Buffalo Milk Company Building, 885 Niagara St., Buffalo, 16000839

Buffalo Public School #24 (PS 24), 775 Best St., Buffalo, 16000840

The Karnak Flats, 87 Whitney Pl., Buffalo, 16000841

The Rae Flats and The Raleigh, 346 and 354 Franklin St., Buffalo, 16000842

Onondaga County

Oak Knitting Company, 102 West Division St., Syracuse, 16000843

OHIO

Clark County

Edward Wren Company Building, 31-37 High St., Springfield, 16000844

Cuyahoga County

Fenway Hall, 1986 Stokes Blvd., Cleveland, 16000845

Franklin County

Del Monte Apartments, 341-345 South Third St., Columbus, 16000846

Hamilton County

Eastern Hills Young Men's Christian Association (YMCA), 1228 E. McMillan St., Cincinnati, 16000847

OKLAHOMA

Kay County

Hatashita, Henry C., House, 1408 Pioneer Rd., Ponca City, 16000848

Oklahoma County

Medical Arts Building, 100 Park Ave., Oklahoma City, 16000849

Municipal Auditorium, 201 North Walker Ave., Oklahoma City, 16000850

Tillman County

Manitou Jail, NE intersection of 3rd St. and U.S. 183, Manitou, 16000851

PUERTO RICO

Lajas Municipality

Oliver Hazard Perry Graded School (Early 20th Century Schools in Puerto Rico MPS), San Bias St., corner with Concordonia St., Lajas, 16000852

Santa Isabel Municipality

Sistema de riego de las tres haciendas (Going with the Flow: Waterworks in Puerto Rico, 1840-1898), South of PR 52, north and on PR 1, west and east of PR 153, Santa Isabel, 16000853

RHODE ISLAND

Providence County

Edgewood Historic District—Aberdeen Plat (Edgewood Neighborhood, Cranston, R.I. MPS), Berwick Ln., Chiswick Rd., Strathmore Place and Road, portions of Broad St., and Narragansett Blvd., Cranston, 16000833

Naushon Company Plant, 32 Meeting St., Cumberland, 16000854

WASHINGTON

King County

Mount Baker Park Improvement Club Clubhouse, 2811 Mount Rainier Dr., S., Seattle, 16000855

Pierce County

Wedge Historic District, Triangle area bounded by Division and 6th Aves., and South M St., Tacoma, 16000856

Authority: 60.13 of 36 CFR Part 60.

Dated: November 4, 2016.
J. Paul Loether,
Chief, National Register of Historic Places/National Historic Landmarks Program.

[FR Doc. 2016-28449 Filed 11-25-16; 8:45 am]

BILLING CODE 4312-52-P